DEPARTMENT OF COMMERCE

International Trade Administration

[A-570-900]

Diamond Sawblades and Parts Thereof From the People's Republic of China: Notice of Court Decision Not in Harmony With the Final Results of Review, Rescission of Administrative Review in Part, and Amended Final Results of the Antidumping Duty Administrative Review; 2013-2014

AGENCY: Enforcement and Compliance, International Trade Administration, Department of Commerce.

SUMMARY: On May 7, 2019, the United States Court of International Trade (CIT) sustained the final remand redetermination pertaining to the administrative review of the antidumping duty order on diamond sawblades and parts thereof from the People's Republic of China covering the period November 1, 2013, through October 31, 2014. The Department of Commerce (Commerce) is notifying the public that the CIT's final judgment in this case is not in harmony with the final results of the administrative review, that Commerce is rescinding the administrative review in part, and that Commerce is amending the final results with respect to the respondents eligible for separate rates.

DATES: Applicable May 17, 2019.

FOR FURTHER INFORMATION CONTACT: Yang Jin Chun or Minoo Hatten, AD/CVD Operations, Office I, Enforcement and Compliance, International Trade Administration, U.S. Department of Commerce, 1401 Constitution Avenue NW, Washington, DC 20230; telephone (202) 482-5760 or (202) 482-1690, respectively.

SUPPLEMENTARY INFORMATION:

Background

On June 14, 2016, Commerce published the Final Results, in which we valued cores produced by Weihai Xiangguang Mechanical Industrial Co., Ltd. (Weihai) using a build-up methodology, and calculated surrogate truck freight distance using the average of the distances between industrial estates in Bangkok and the Port of Bangkok.¹ On March 22, 2018, the CIT remanded the Final Results to Commerce to re-examine: (1) The withdrawals of review requests with respect to Weihai in light of Glycine & More, Inc. v. United States, 880 F.3d 1335 (Fed. Cir. 2018) (Glycine & More); and (2) the surrogate truck freight distance used in the valuation of the truck freight expense. In addition, the CIT granted Commerce's request for a voluntary remand to address the issues concerning the valuation of Weihai's purchased cores and the rate for non-selected separate rate respondents.²

¹ See Diamond Sawblades and Parts Thereof from the People's Republic of China: Final Results of Antidumping Duty Administrative Review; 2013-2014, 81 FR 38673 (June 14, 2016) (Final Results) and accompanying Issues and Decision Memorandum at Comments 11 and 19.

² See Diamond Sawblades Manufacturers' Coalition v. United States, 301 F. Supp. 3d 1326 (CIT 2018).

In the first final remand redetermination, we stated our intent to accept all withdrawals of review requests with respect to Weihai, rescind the administrative review with respect to Weihai, and revise the surrogate truck freight distance. Because we intended to rescind the administrative review in part with respect to Weihai, we treated the issue of the valuation of Weihai's cores as moot. We assigned the revised rate for the Jiangsu Fengtai Single Entity ³ as the separate rate to eligible non-selected respondents.⁴

³ The Jiangsu Fengtai Single Entity is comprised of Jiangsu Fengtai Diamond Tool Manufacture Co., Ltd., Jiangsu Fengtai Tools Co., Ltd., and Jiangsu Fengtai Sawing Industry Co., Ltd. See the Memorandum, “Diamond Sawblades and Parts Thereof from the People's Republic of China—Collapsing of Jiangsu Fengtai Diamond Tool Manufacture Co., Ltd. and Affiliated Producers,” dated November 30, 2015.

⁴ See Final Remand Redetermination dated August 6, 2018, pursuant to Diamond Sawblades Manufacturers' Coalition v. United States, 301 F. Supp. 3d 1326 (CIT 2018), and available at https://enforcement.trade.gov/remands/18-28.pdf, aff'd in part, remanded in part, Diamond Sawblades Manufacturers' Coalition v. United States, 359 F. Supp. 3d 1374 (CIT 2019).

On February 1, 2019, the CIT remanded the Final Results to Commerce to reconsider Commerce's methodology in determining the separate rate for the non-selected respondents in this litigation. In addition, the CIT ordered that, if Commerce decides on remand to reinstate Weihai in the administrative review, Commerce must make appropriate adjustments in line with the CIT's previous remand order regarding the cores valuation and the revision to the surrogate truck freight distance with respect to Weihai.⁵

⁵ See Diamond Sawblades Manufacturers' Coalition v. United States, 359 F. Supp. 3d 1374 (CIT 2019).

In the second final remand redetermination, we continued to accept all withdrawals of review requests with respect to Weihai and stated our intent to rescind the administrative review, in part, with respect to Weihai. In response to the CIT's remand order, we relied on data for Weihai and the Jiangsu Fengtai Single Entity to recalculate the separate rate for the eligible non-selected respondents, with the adjustments to the cores valuation and the surrogate truck freight distance for Weihai.⁶ On May 7, 2019, the CIT sustained our second final remand redetermination in its entirety.⁷

⁶ See Final Second Remand Redetermination dated March 29, 2019, pursuant to Diamond Sawblades Manufacturers' Coalition v. United States, 359 F. Supp. 3d 1374 (CIT 2019), and available at https://enforcement.trade.gov/remands/19-17.pdf.

⁷ See Diamond Sawblades Manufacturers' Coalition v. United States, Court No. 16-00124, Slip Op. 19-54 (CIT May 7, 2019).

Timken Notice

In its decision in Timken Co. v. United States, 893 F.2d 337, 341 (Fed. Cir. 1990) (Timken), as clarified by Diamond Sawblades Mfrs. Coalition v. United States, 626 F.3d 1374 (Fed. Cir. 2010), the United States Court of Appeals for the Federal Circuit held that, pursuant to section 516A(e) of the Tariff Act of 1930, as amended (the Act), Commerce must publish a notice of a court decision that is not “in harmony” with a Commerce determination and must suspend liquidation of entries pending a “conclusive” court decision. The CIT's May 7, 2019, final judgment sustaining the second final remand redetermination constitutes the CIT's final decision which is not “in harmony” with the Final Results. This notice is published in fulfillment of the publication requirements of Timken. Accordingly, Commerce will continue the suspension of liquidation of the subject merchandise pending expiration of the period to appeal or, if appealed, pending a final and conclusive court decision.

Rescission of Administrative Review in Part

In accordance with 19 CFR 351.213(d), Commerce will rescind an administrative review in part “if a party that requested a review withdraws the request within 90 days of the date of the publication of notice of initiation of the requested review. The Secretary may extend this time limit if the Secretary decides that it is reasonable to do so.” ⁸ Subsequent to the initiation of the review, the petitioner and Weihai timely withdrew their requests for review of Weihai.⁹ Robert Bosch Tools Corporation (Bosch) withdrew its request for review of Weihai after the regulatory 90-day period ¹⁰ but we extended this time limit and accepted Bosch's withdrawal of its review request because we find it reasonable to do so under 19 CFR 351.213(d).¹¹ Because no other party requested a review of Weihai, we are rescinding the review in part with respect to Weihai in accordance with 19 CFR 351.213(d)(1).

⁸ See 19 CFR 351.213(d).

⁹ See the petitioner's and Weihai's withdrawals of review request dated March 23, 2015.

¹⁰ See Bosch's withdrawal of review request dated April 8, 2015.

¹¹ See Final Remand Redetermination dated August 6, 2018, pursuant to Diamond Sawblades Manufacturers' Coalition v. United States, 301 F. Supp. 3d 1326 (CIT 2018), and available at https://enforcement.trade.gov/remands/18-28.pdf, aff'd, remanded on other grounds, Diamond Sawblades Manufacturers' Coalition v. United States, 359 F. Supp. 3d 1374 (CIT 2019).

Amended Final Results of Review

Because there is now a final court decision, Commerce is amending the Final Results with respect to the separate rate respondents as follows:

¹² Commerce determined that Chengdu Huifeng New Material Technology Co., Ltd., is the successor-in-interest to Chengdu Huifeng Diamond Tools Co., Ltd. See Diamond Sawblades and Parts Thereof from the People's Republic of China: Final Results of Antidumping Duty Changed Circumstances Review, 82 FR 60177 (December 19, 2017).

Exporter | Weighted-average dumping margin (percent)
Bosun Tools Co., Ltd | 39.66
Chengdu Huifeng Diamond Tools Co., Ltd¹² | 39.66
Danyang Huachang Diamond Tools Manufacturing Co., Ltd | 39.66
Danyang NYCL Tools Manufacturing Co., Ltd | 39.66
Danyang Weiwang Tools Manufacturing Co., Ltd | 39.66
Guilin Tebon Superhard Material Co., Ltd | 39.66
Hangzhou Deer King Industrial and Trading Co., Ltd | 39.66
Hong Kong Hao Xin International Group Limited | 39.66
Huzhou Gu's Import & Export Co., Ltd | 39.66
Jiangsu Fengtai Single Entity | 56.67
Jiangsu Huachang Tools Manufacturing Co., Ltd | 39.66
Jiangsu Inter-China Group Corporation ¹³ | 39.66
Jiangsu Youhe Tool Manufacturer Co., Ltd | 39.66
Orient Gain International Limited | 39.66
Pantos Logistics (HK) Company Limited | 39.66
Qingyuan Shangtai Diamond Tools Co., Ltd | 39.66
Quanzhou Zhongzhi Diamond Tool Co., Ltd | 39.66
Rizhao Hein Saw Co., Ltd | 39.66
Saint-Gobain Abrasives (Shanghai) Co., Ltd | 39.66
Shanghai Jingquan Industrial Trade Co., Ltd | 39.66
Wuhan Wanbang Laser Diamond Tools Co¹⁴ | 39.66
Xiamen ZL Diamond Technology Co., Ltd | 39.66
Zhejiang Wanli Tools Group Co., Ltd | 39.66

In the event the CIT's ruling is not appealed or, if appealed, upheld by a final and conclusive court decision, Commerce will instruct the U.S. Customs and Border Protection (CBP) to assess antidumping duties on unliquidated entries of subject merchandise based on the revised rates Commerce determined and listed above and, for Weihai, at the rate equal to the cash deposit of the estimated antidumping duty required at the time of entry, or withdrawal from warehouse, for consumption, in accordance with 19 CFR 351.212(c)(2).

¹³ See Diamond Sawblades and Parts Thereof from the People's Republic of China: Preliminary Results of Antidumping Duty Administrative Review; 2013-2014, 80 FR 75854, 75855, n.15 (December 4, 2015), for the name variation of this company.

¹⁴ Commerce determined that Wuhan Wanbang Laser Diamond Tools Co., Ltd., is the successor-in-interest to Wuhan Wanbang Laser Diamond Tools Co. See Diamond Sawblades and Parts Thereof from the People's Republic of China: Final Results of Antidumping Duty Changed Circumstances Review, 81 FR 20618 (April 8, 2016).

Cash Deposit Requirements

As the cash deposit rate for Jiangsu Huachang Tools Manufacturing Co., Ltd., has not been subject to subsequent administrative reviews, Commerce will issue revised cash deposit instructions to CBP adjusting the rate from 29.76 percent to 39.66 percent, effective May 17, 2019. For all other respondents listed above, because the cash deposit rates have been updated in subsequent administrative reviews,¹⁵ we will not update their cash deposit rates as a result of these amended final results.

¹⁵ See Diamond Sawblades and Parts Thereof from the People's Republic of China: Final Results of Antidumping Duty Administrative Review; 2015-2016, 83 FR 17527, 17528 (April 20, 2018), for Bosun Tools Co., Ltd., Danyang NYCL Tools Manufacturing Co., Ltd., and Wuhan Wanbang Laser Diamond Tools Co., and Diamond Sawblades and Parts Thereof from the People's Republic of China: Preliminary Results of Antidumping Duty Administrative Review; 2016-2017, 83 FR 39673, 39674, n.10 (August 10, 2018), unchanged in Diamond Sawblades and Parts Thereof from the People's Republic of China: Final Results of Antidumping Duty Administrative Review; 2016-2017, 83 FR 64331 (December 14, 2018), for all other respondents listed above for which the cash deposit rates will not be updated as a result of these amended final results.

Notification to Interested Parties

This notice is issued and published in accordance with sections 516A(e)(1), 751(a)(1), and 777(i)(1) of the Act.

Dated: May 16, 2019.
Jeffrey I. Kessler,
Assistant Secretary for Enforcement and Compliance.

[FR Doc. 2019-10803 Filed 5-22-19; 8:45 am]

BILLING CODE 3510-DS-P